DEPARTMENT OF HEALTH AND HUMAN SERVICES

Centers for Disease Control and Prevention

[Program Announcement 04071]

International Programs To Prevent and Control Micronutrient Malnutrition; Notice of Intent To Fund Single Eligibility Award

A. Purpose

The Centers for Disease Control and Prevention (CDC) announces the intent to fund fiscal year (FY) 2004 funds for a cooperative agreement program to work with partners to contribute CDC skills and resources to the global effort to eliminate vitamin and mineral deficiencies in developing countries, particularly iodine, iron, vitamin A, and folic acid deficiencies. The Catalog of Federal Domestic Assistance number for this program is 93.283.

B. Eligible Applicant

Assistance will be provided only to the United Nations Children's Fund (UNICEF) for component 1 and World Health Organization (WHO) for component 2. UNICEF has an extensive network of country and regional offices and formal ties with host governments. These ties give UNICEF the unique capability to develop and implement micronutrient malnutrition activities on a broad scale. WHO is the United Nations specialized agency for health, and has developed close relationships with ministries of health in countries throughout the world. In the area of micronutrient malnutrition, WHO has issued norms and standards that serve as reference points for member countries, particularly developing countries. CDC is currently collaborating with WHO in a one year agreement for the development of standardized methods for the assessment of iron deficiency and conducting workshops to train regional and country representatives in standardized approaches to perform country-based micronutrient assessments and communication planning. No other organization has the international recognition and acceptance to assist us in achieving the goals of this program for component 2.

C. Funding

Approximately $1,300,000 is available in FY 2004 to fund this award. It is expected that the award will begin on or before September 1, 2004, and will be made for a 12-month budget period within a project period of up to five years. Funding estimates may change.

D. Where To Obtain Additional Information

For general comments or questions about this announcement, contact: Technical Information Management, CDC Procurement and Grants Office, 2920 Brandywine Road, Atlanta, GA 30341-4146; telephone: 770-488-2700.

For technical questions about this program, contact: Dan Sadler, CDC National Center for Chronic Disease Prevention and Health Promotion, Division of Nutrition and Physical Activity, 4770 Buford Hwy, NE., Mailstop K-24, Atlanta, GA 30341; telephone: 770-488-6042.

Dated: February 5, 2004.
Sandra R. Manning,
Director, Procurement and Grants Office, Centers for Disease Control and Prevention.

[FR Doc. 04-3045 Filed 2-11-04; 8:45 am]

BILLING CODE 4163-18-P